GENERAL SERVICES ADMINISTRATION

[Notice-WWICC-2016-04; Docket No. 2016-0006; Sequence 4]

World War One Centennial Commission; Notification of Upcoming Public Advisory Meeting

AGENCY: World War One Centennial Commission.

ACTION: Meeting notice.

SUMMARY: Notice of this meeting is being provided according to the requirements of the Federal Advisory Committee Act, 5 U.S.C. App. 10(a)(2). This notice provides the schedule and agenda for the September 30, 2016 meeting of the World War One Centennial Commission (the Commission). The meeting is open to the public.

DATES: Effective: September 13, 2016.

Meeting Date and Location: The meeting will be held on Friday, September 30, 2016, starting at 3:00 p.m. Eastern Daylight Time (EDT), and ending no later than 5:00 p.m. (EDT). The meeting will be held at the National Museum of the United States Air Force, 1100 Spaatz St., Dayton, OH, 45431. This location is handicapped accessible. The meeting will be open to the public. Persons attending in person are requested to refrain from using perfume, cologne, and other fragrances (see http://www.access-board.gov/about/policies/fragrance.htm for more information).

Written Comments may be submitted to the Commission and will be made part of the permanent record of the Commission. Comments must be received by 5:00 p.m. (EDT) on September 23, 2016 and may be provided by email to daniel.dayton@worldwar1centennial.gov. Contact Daniel S. Dayton at daniel.dayton@worldwar1centennial.org to register to comment during the meeting's 30-minute public comment period.

Registered speakers/organizations will be allowed five minutes, and will need to provide written copies of their presentations. Requests to comment, together with presentations for the meeting, must be received by 5:00 p.m. (EDT) on Friday, September 23, 2016. Please contact Mr. Dayton at the email address above to obtain meeting materials.

FOR FURTHER INFORMATION CONTACT: Daniel S. Dayton, Designated Federal Officer, World War 1 Centennial Commission, 701 Pennsylvania Avenue NW., 123, Washington, DC, 20004-2608, or via phone at 202-380-0725 (note: this is not a toll-free number).

SUPPLEMENTARY INFORMATION:

Background

The World War One Centennial Commission was established by Public Law 112-272 (as amended), as a commission to ensure a suitable observance of the centennial of World War I, to provide for the designation of memorials to the service of members of the United States Armed Forces in World War I, and for other purposes.

Under this authority, the Committee will plan, develop, and execute programs, projects, and activities to commemorate the centennial of World War I, encourage private organizations and State and local governments to organize and participate in activities commemorating the centennial of World War I, facilitate and coordinate activities throughout the United States relating to the centennial of World War I, serve as a clearinghouse for the collection and dissemination of information about events and plans for the centennial of World War I, and develop recommendations for Congress and the President for commemorating the centennial of World War I. The Commission does not have an appropriation and operated solely on donated funds.

Agenda: Friday September 30, 2016

Old Business

• Acceptance of minutes of last meeting

• Public Comment Period

New Business

• Executive Director's Report—Mr. Dayton

• Approval of United States Foundation Relationship Memo

• Approval of Budget Request for Foundation

• Memorial Report—Mr. Fountain

• Education Report—Dr. O'Connell

• Endorsements—(RFS)—Dr. Seefried

• International Report—Dr. Seefried

• Report on April 6 Event—Drs. Seefried and Naylor

• Other Business

• Chairman's Report

• Set Next Meeting

• Motion to Adjourn

Dated: September 7, 2016.
Daniel S. Dayton,
Designated Federal Official, World War I Centennial Commission.

[FR Doc. 2016-21901 Filed 9-12-16; 8:45 am]

BILLING CODE 6820-95-P